COMMISSION ON CIVIL RIGHTS

Notice of Public Meeting of the Puerto Rico Advisory Committee to the U.S. Commission on Civil Rights

AGENCY: Commission on Civil Rights.

ACTION: Announcement of meeting.

SUMMARY: Notice is hereby given, pursuant to the provisions of the rules and regulations of the U.S. Commission on Civil Rights (Commission), and the Federal Advisory Committee Act (FACA), that a meeting of the Puerto Rico Advisory Committee to the Commission will convene by virtual web conference on Monday, February 13, 2023, at 3:30 p.m. Atlantic Time (2:30 p.m. Eastern Time). The purpose is to discuss their project on the civil rights impacts of the Insular Cases in Puerto Rico.

DATES: February 13, 2023, Monday, at 3:30 p.m. (AT):

ADDRESSES: Meeting will be held via Zoom.

Meeting Link (Audio/Visual): https://tinyurl.com/4d25mckb

Join by Phone (Audio Only): 1-551-285-1373; Meeting ID: 161 144 0473#

FOR FURTHER INFORMATION CONTACT: Email Victoria Moreno, Designated Federal Officer at vmoreno@usccr.gov, or by phone at 434-515-0204.

SUPPLEMENTARY INFORMATION: This meeting will be held in Spanish. English interpretation can be made available upon request 10 days before the meeting. The request can be made to Evelyn Bohor at ebohor@usccr.gov. This meeting is available to the public through the link above. If joining only via phone, callers can expect to incur charges for calls they initiate over wireless lines, and the Commission will not refund any incurred charges. Individuals who are deaf, deafblind and hard of hearing may also follow the proceedings by first calling the Federal Relay Service at 1-800-877-8339 and providing the Service with the call-in number found through registering at the web link provided above for the meeting.

Members of the public are entitled to make comments during the open period at the end of the meeting. Members of the public may also submit written comments; the comments must be received in the Regional Programs Unit within 30 days following the respective meeting. Written comments may be emailed to Victoria Moreno at vmoreno@usccr.gov. All written comments received will be available to the public.

Persons who desire additional information may contact the Regional Programs Unit at (202) 809-9618. Records and documents discussed during the meeting will be available for public viewing as they become available at the www.facadatabase.gov. Persons interested in the work of this advisory committee are advised to go to the Commission's website, www.usccr.gov, or to contact the Regional Programs Unit at the above phone number or email address.

Agenda

1. Welcome & Roll Call

2. Committee Discussion on Project Regarding the Civil Rights Impacts of the Insular Cases in Puerto Rico

3. Next Steps

4. Public Comment

5. Other Business

6. Adjourn

Dated: January 20, 2023.
David Mussatt,
Supervisory Chief, Regional Programs Unit.

[FR Doc. 2023-01526 Filed 1-25-23; 8:45 am]

BILLING CODE P